DEPARTMENT OF ENERGY

Federal Energy Regulatory Commission

[Docket No. CP02-125-000]

Texas Gas Transmission Corporation; Notice of Application

April 3, 2002.

Take notice that on March 27, 2002, Texas Gas Transmission Corporation (Texas Gas), 3800 Frederica Street, Owensboro, Kentucky 42301, filed in Docket No. CP02-125-000, for: (1) An application pursuant to section 7(b) of the Natural Gas Act (NGA) for authorization to abandon by sale to ATP Oil & Gas Corporation (ATP) certain supply lateral facilities extending from West Cameron Area Block 237 to West Cameron Area Block 250, offshore Louisiana and (2) a request for jurisdictional determination that, upon approval of the abandonment by sale, such facilities will be gathering facilities, and ATP's ownership and operation of the subject supply lateral facilities will be exempt from Commission jurisdiction under the NGA, all as more fully set forth in the application which is on file with the Commission and open to public inspection. Copies of this filing are on file with the Commission and are available for public inspection. This filing may be viewed on the web at http://www.ferc.gov using the “RIMS” link, select “Docket #” from the RIMS Menu and follow the instructions (call (202) 208-2222 for assistance).

Texas Gas states that it has entered into an agreement with ATP whereby Texas Gas will, upon Commission approval, transfer by sale to ATP certain supply lateral facilities consisting of approximately 4.436 miles of 12-inch diameter pipeline, measurement facilities, and various valves and equipment, located in West Cameron Area Block 237 and terminating in West Cameron Area Block 250, offshore Louisiana.

Texas Gas indicates that the proposed abandonment will permit Texas Gas to divest itself of a supply lateral, which is remote from, and not integrated with, its mainline transmission system, and which was constructed to support its former merchant function. Texas Gas avers that it no longer requires the subject supply lateral to access gas supplies, and that these facilities are not integral to Texas Gas' current role as an open-access transporter. Texas Gas asserts that abandonment of the subject facilities will enable Texas Gas to streamline its transmission operations by eliminating certain operating costs associated with maintaining facilities that are not part of Texas Gas' contiguous system.

Texas Gas states that the transfer of the subject supply lateral facilities will not adversely affect any of their current customers. Texas Gas declares that there are no firm transportation commitments involving utilization of those facilities. Texas Gas avers that after the transfer, ATP indicates that it will provide non-jurisdictional service on a non-discriminatory basis. Texas Gas asserts that availability of service through these facilities will not be impaired as a result of Texas Gas' transfer of these facilities to ATP.

Texas Gas states that ATP will pay Texas Gas the sum of $100 for Texas Gas' interest (100%) in the facilities. Texas Gas indicates that in recognition of the costs associated with any future retirement of these facilities by ATP, an agreement provides for Texas Gas to pay ATP actual and reasonable costs associated with retirement up to $100,000.

Any questions regarding this application should be directed to David N. Roberts, Manager of Certificates and Tariffs, Texas Gas Transmission Corporation, P.O. Box 20008, Owensboro, Kentucky 42304, at (270) 688-6712.

There are two ways to become involved in the Commission's review of this project. First, any person wishing to obtain legal status by becoming a party to the proceedings for this project should, on or before April 24, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Magalie R. Salas,
Secretary.

[FR Doc. 02-8504 Filed 4-8-02; 8:45 am]

BILLING CODE 6717-01-P